DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from Hancock County, ME.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Penobscot Tribe of Maine.

At an unknown date, human remains representing a minimum of two individuals were collected from a shell heap on Pond Island, Blue Hill Bay, in Hancock County, ME, during an excavation sponsored by the Wilson Museum, Castine, ME. The individual who collected the human remains is unknown. In 1965, the human remains were accessioned into the American Museum of Natural History collections as a gift from the Wilson Museum and Ms. Norman W. Doudiet. No known individuals were identified. No associated funerary objects are present.

Geographic and temporal information suggest the human remains are from the postcontact territory of the Penobscot Indians. A radiocarbon date of 245120 years B.P. associated with the human remains places them in the postcontact period. During the postcontact period, the portion of Maine from which these human remains were recovered was part of the traditional territory of the Penobscot Indians.

Officials of the American Museum of Natural History have determined that, pursuant to 25 U.S.C. 3001 (9-10), the human remains described above represent the physical remains of two individuals of Native American ancestry. Officials of the American Museum of Natural History also have determined that, pursuant to 25 U.S.C. 3001 (2), there is a relationship of shared group identity that can be reasonably traced between the Native American human remains and the Penobscot Tribe of Maine.

Representatives of any other Indian tribe that believes itself to be culturally affiliated with the human remains should contact Nell Murphy, Director of Cultural Resources, American Museum of Natural History, Central Park West at 79th Street, New York, NY 10024-5192, telephone (212) 769-5837, before May 26, 2006. Repatriation of the human remains to the Penobscot Tribe of Maine may proceed after that date if no additional claimants come forward.

The American Museum of Natural History is responsible for notifying the Penobscot Tribe of Maine that this notice has been published.

Dated: March 31, 2006.
Sherry Hutt,
Manager, National NAGPRA Program.

[FR Doc. E6-6263 Filed 4-25-06; 8:45 am]

BILLING CODE 4312-50-S